DEPARTMENT OF TRANSPORTATION

Federal Transit Administration

Intent To Prepare an Environmental Impact Statement for the Southwest-to-Northeast Rail Corridor Project in Fort Worth, TX

AGENCY: Federal Transit Administration (FTA), Department of Transportation (DOT).

ACTION: Notice of Intent to prepare an Environmental Impact Statement (EIS).

SUMMARY: The FTA and the Fort Worth Transportation Authority (The T) issue this notice to advise interested agencies and the public of their intent to prepare an EIS in accordance with the regulations implementing the National Environmental Policy Act (NEPA) for transit improvements in Fort Worth, and Tarrant County, Texas. Transit improvements from southwest Fort Worth, through downtown Fort Worth, to the northern entrance into the Dallas-Fort Worth International Airport (DFW Airport), are proposed along what is known as the Southwest-to-Northeast Rail Corridor. The proposed alignment will largely follow the Fort Worth & Western Railroad (FWWR), Union Pacific Railroad Company (UPRR), Burlington Northern Santa Fe Railroad (BNSF), and Dallas Area Rapid Transit-owned Cotton Belt rail lines that traverse Tarrant County.

Transportation improvements are needed to meet current and future travel demand and to upgrade the transportation facilities in the corridor. The EIS will evaluate the future No-Build Alternative, a Transportation Systems Management (TSM) alternative, the preliminary Locally Preferred Alternative (LPA) from the recently completed planning Alternatives Analysis (AA), and any additional reasonable alternatives that emerge from the scoping process.

DATES: Comment Due Date: Written or electronic comments on the scope of the EIS, including the purpose and need for transportation action in the corridor, and alternatives and impacts to be considered, should be sent to the project public involvement team (see ADDRESSES below) by July 31, 2007.

Scoping Meetings: Public scoping meetings will be held from June 19 to June 21, 2007, at the following times and locations:

Tuesday, June 19, 2007

6 p.m.-7:30 p.m., Texas Department of Transportation—Regional Training Center, 2501 SW Loop 820, (I-20 and McCart Avenue), Fort Worth, Texas 76133.

Wednesday, June 20, 2007

12 p.m. (noon)—1:30 p.m., Intermodal Transportation Center, 1001 Jones Street, Fort Worth, Texas 76102.

Thursday, June 21, 2007

7 p.m.-8:30 p.m., Grapevine Community Activities Center, 1175 Municipal Way, Grapevine, Texas 76051.

The meeting locations are accessible by persons with disabilities. The public involvement team must be contacted in advance regarding special needs such as signing or translation services. The time and place of the public scoping meetings will also be provided through display advertisements in local newspapers; newsletters that will be mailed to persons on the project database who have expressed an interest in the project; E-mail notifications; media releases that will be distributed to all print and electronic media serving the corridor; and posting of information on the project Web site. The scoping information packet is available on the internet at www.SW2NERail.com. The packet is also available in hardcopy form by contacting the project public involvement team as indicated below.

ADDRESSES: Written or electronic comments on the scope of the EIS should be sent to:Southwest-to-Northeast Rail Corridor, 1600 E. Lancaster Avenue, Fort Worth, TX 76102; the Southwest-to-Northeast Rail Corridor Fax: 214-495-0479; or E-mail: info@SW2NERail.com.

Additional scoping information may be requested and other requests made by contacting the Public Involvement Team at: Southwest-to-Northeast Rail Corridor Public Involvement Team, 1600 E. Lancaster Avenue, Fort Worth, TX 76102; the Southwest-to-Northeast Rail Corridor Telephone Hotline: 817-215-8785; or E-mail: info@SW2NERail.com.

FOR FURTHER INFORMATION CONTACT: Lynn Hayes, Community Planner, Federal Transit Administration, Region VI; (817) 978-0550

SUPPLEMENTARY INFORMATION:

I. Proposed Action

Following a study of the transportation needs in the corridor and an analysis of alternative solutions, The T Executive Committee recommended transportation improvements along portions of the FWWR, UPRR, BNSF, and DART-owned Cotton Belt railroad lines from southwest Fort Worth beginning at approximately Altamesa Boulevard/Dirks Road, through Downtown Fort Worth, and continuing through Haltom City, North Richland Hills, Watauga, Hurst, Colleyville, and Grapevine, before terminating inside the northern entrance of DFW Airport. The planning Alternatives Analysis (AA) document that supported The T's decision on a preliminary Locally Preferred Alternative (LPA) is available for public review on the internet at www.SW2NERail.com or by contacting the public involvement team at the ADDRESSES above. The AA, which led to the project's purpose and need statement and the alternatives recommended for further review, will also be available for review at the public scoping meetings.

The FTA and The T will prepare an EIS to evaluate the preliminary LPA (i.e., regional or commuter rail on the Southwest-to-Northeast alignment), the future No-Build alternative, and a TSM alternative. Interested individuals, organizations, businesses, Native American tribes, and federal, state and local government agencies are invited to participate in determining the scope of the EIS, including the purpose and need for transportation action in the corridor, alternative alignments, alternative station locations, impacts to be evaluated, and environmental or community resources to be protected. Specific suggestions on additional alternatives to be examined and issues to be addressed are welcome and will be considered in the development in the final study scope. Scoping comments may be made orally or in writing no later than July 31, 2007. See ADDRESSES above. Additional information on the EIS process, the purpose and need, alternatives, and anticipated impact issues are available from The T. See ADDRESSES above.

II. Description of the Study Area and Project Purpose and Need

The study area for the EIS evaluation is the travelshed from southwest Fort Worth, through downtown Fort Worth, to DFW Airport, which is a distance of approximately 36 miles. The purpose of the proposed action is to improve mobility between and among activity centers in the corridor, provide multimodal solutions for mobility in the corridor that help mitigate congestion and improve air quality, and provide a transportation solution that interacts seamlessly and efficiently with other transportation systems in the region. FTA and The T seek comment on the project's purpose and need. More details are available in the scoping information packet. See ADDRESSES above.

The relationships of concurrent projects, such as the State Highway (SH) 121 Southwest Parkway (currently in final design) being conducted by the Texas Department of Transportation (TxDOT) and the North Texas Tollway Authority (NTTA); the Interstate Highway 35 West (I-35W also commonly referred to as IH 35W) Corridor Improvement Study (CIS) by TxDOT; the Loop 820 East Corridor Environmental Assessment (EA); the SH-121/SH-183 (Airport Freeway) CIS; the SH-114/SH-121 (DFW Connector) CIS; the Loop 820 Northeast Corridor CIS; and others, will also be considered in the EIS process.

III. Alternatives To Be Considered

The alternatives evaluated in the EIS will include, but not be limited to, the preliminary Locally Preferred Alternative (LPA) developed in the AA and adopted by The T's Executive Committee in November 2006. This alternative consists of regional rail using portions of the FWWR, UPRR, BNSF, and DART-owned Cotton Belt rail alignments between southwest Fort Worth and the north entrance to DFW Airport. Feeder bus improvements are also included as part of the recommended LPA. Eleven stations were proposed on the alignment during the AA: Altamesa Boulevard/Dirks Road; I-20 and Granbury Road; Berry/Texas Christian University (TCU); Medical Center; Texas and Pacific (T&P) Terminal (existing); the Fort Worth Intermodal Transportation Center (ITC) (existing); Stockyards/23rd; Beach Street; Grapevine/Main Street; DFW Airport—North; and DFW Airport—Terminal A/B.

The EIS will examine these and other reasonable alternatives that emerge from the scoping process. The EIS will also evaluate the appropriate end-of-line and associated facilities and connections with the Trinity Railway Express (TRE) and a potential future connection with the DART light rail system at DFW Airport. As part of the evaluation, station locations, rail vehicle storage and maintenance facilities, and other ancillary facilities, such as stormwater management systems, will be identified and studied as appropriate.

The EIS will also evaluate the future No-Build Alternative and a TSM Alternative. Other alternatives may be added as a result of scoping and agency coordination efforts.

IV. Probable Impacts for Analysis

The EIS evaluation will analyze social, economic, and environmental impacts of the alternatives. Major issues to be evaluated include air quality, noise and vibration, aesthetics, community cohesion impacts, and possible disruption of neighborhoods, businesses and commercial activities. The impact areas and level of detail addressed in the EIS will be consistent with the requirements of SAFETEA-LU Section 6002 and the FTA/Federal Highway Administration environmental regulation (Environmental Impact and Related Procedures, 23 CFR 771 and 40 CFR 1500-1508) and other environmental and related regulations. Among other factors, the EIS will evaluate:

• Transportation service including future corridor capacity;

• Transit ridership and costs;

• Traffic movements and changes and associated impacts to local facilities;

• Community impacts such as land use, displacements, noise and vibration, neighborhood compatibility and aesthetics; and

• Resource impacts including impacts to historic and archeological resources, parklands, cultural resource impacts, environmental justice, and natural resource impacts including air quality, wetlands, water quality, wildlife, and vegetation.

The proposed impact assessment and evaluation will take into account both positive and negative impacts, direct and indirect impacts, short-term (during the construction period) and long-term impacts, and site-specific as well as corridor-wide and cumulative impacts. Mitigation measures will be considered for any adverse environmental impacts identified. Other potential impacts may be added as a result of scoping and agency coordination efforts.

V. Anticipated Federal Approvals

In accordance with FTA policy, FTA and The T will coordinate compliance with all applicable Federal environmental laws, regulations, and executive orders during the NEPA process. Federal approvals anticipated to be required for implementing the recommended preliminary Locally Preferred Alternative include:

• U.S. Army Corps of Engineers' Section 404 Permit in accordance with the Clean Water Act;

• Trinity Corridor Development Certificate Permit in accordance with North Central Texas Council of Governments' (NCTCOG's) Trinity River Common Vision Program;

• Section 4(f) evaluation in accordance with 49 USC 303; and

• Section 106 review in accordance with the National Historic Preservation Act.

Issued on: May 30, 2007.
Robert C. Patrick,
Regional Administrator, Federal Transit Administration, Fort Worth, Texas.

[FR Doc. E7-10762 Filed 6-4-07; 8:45 am]

BILLING CODE 4910-57-P